DEPARTMENT OF TRANSPORTATION

National Highway Traffic Safety Administration

Reports, Forms and Record Keeping Requirements; Agency Information Collection Activity Under OMB Review

AGENCY: National Highway Traffic Safety Administration (NHTSA), U.S. Department of Transportation (DOT).

ACTION: Notice and request for comments.

SUMMARY: In compliance with the Paperwork Reduction Act of 1995 (44 U.S.C. 3501 et seq.), this notice announces that the Information Collection Request abstracted below is being forwarded to the Office of Management and Budget (OMB) for review and comments. A Federal Register Notice with a 60-day comment period soliciting comments on the following information collection was published on September 8, 2017 [82 FR 42572]. The agency received no comments.

DATES: Comments must be submitted on or before January 5, 2018.

ADDRESSES: Send comments, within 30 days, to the Office of Information and Regulatory Affairs, Office of Management and Budget, 725 17th Street NW., Washington, DC 20503, Attention NHTSA Desk Officer.

FOR FURTHER INFORMATION CONTACT: Joshua Fikentscher at the National Highway Traffic Safety Administration, Office of Crash Avoidance Standards, 1200 New Jersey Avenue SE., West Building, Room W43-467, Washington, DC 20590. Mr. Fikentscher's phone number is 202-366-1688.

SUPPLEMENTARY INFORMATION:

National Highway Traffic Safety Administration

Title: Brake Hose Manufacturers Identification.

OMB Control Number: 2127-0052.

Type of Review: Request for public comments on a previously approved collection of information.

Abstract: 49 U.S.C. 30101 et seq., as amended (“the Safety Act”), authorizes NHTSA to issue Federal Motor Vehicle Safety Standards (FMVSSs). The Safety Act mandates that in issuing any FMVSS, the agency is to consider whether the standard is reasonable and appropriate for the particular type of motor vehicle or item of motor vehicle equipment for which it is prescribed. Using this authority, FMVSS No. 106, Brake Hoses, was issued. This standard specifies labeling and performance requirements which apply to all manufacturers of brake hoses and brake hose end fittings, and to those who assemble brake hoses (49 CFR 571.106).

Prior to assembling or selling brake hoses, these entities must register their identification marks with NHTSA to comply with the labeling requirements of this standard. In accordance with the Paperwork Reduction Act, the agency must obtain OMB approval to continue collecting labeling information. Currently, there are 2,418 manufacturers of brake hoses and end fittings, and brake hose assemblers, registered with NHTSA. However, about 60 respondents annually (annual average from 2014-2016) request to have their identification marks added to or removed from the NHTSA database. To comply with this standard, each brake hose manufacturer or assembler must contact NHTSA and state that they want to be added to or removed from the NHTSA database of registered brake hose manufacturers. This action is usually initiated by the manufacturer with a brief written request via U.S. mail, facsimile, an email message, or a telephone call. Since September 1, 2015, the request can be submitted via the Manufacturer Portal: Online Web-based Submittal Center (https://vpic.nhtsa.dot.gov). Currently, about 90 percent of requests are received electronically and 10 percent via mail. The estimated time for complying with the labeling requirements of this regulation is 1.5 hours per manufacturer. The corresponding total annual burden is estimated to be 90 hours (time burden of 1.5 hours per manufacturer × 60 manufacturers). The estimated manufacturer's cost for complying with this regulation is $100 per hour. Therefore, the total annual cost is estimated to be $9,000 (time burden of 90 hours × $100 cost per hour).

Affected Public: Business or other for profit.

Number of Respondents: 60.

Number of Responses: 60.

Total Annual Burden: 90 hours.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Authority: Paperwork Reduction Act of 1995, 44 U.S.C. Chapter 35; delegation of authority at 49 CFR 1.95.

Raymond R. Posten,
Associate Administrator for Rulemaking.

[FR Doc. 2017-26234 Filed 12-5-17; 8:45 am]

BILLING CODE 4910-59-P